DEPARTMENT OF THE INTERIOR

Bureau of Land Management

[18X21109AF LLUT92000 L13100000 FI0000 25-7A]

Notice of Proposed Class II Reinstatement of Terminated Oil and Gas Lease UTU89234, Utah

AGENCY: Bureau of Land Management, Interior.

ACTION: Notice.

SUMMARY: In accordance with Title IV of the Federal Oil and Gas Royalty Management Act, EnerVest Energy Institutional Fund XII-A LP, XXI-WIB, XXI-WIC, timely filed a petition for reinstatement of oil and gas lease UTU89234 for lands in Carbon County, Utah, and it was accompanied by all required rentals and royalties accruing from February 1, 2016, the date of termination. The BLM proposes to reinstate the lease.

FOR FURTHER INFORMATION CONTACT: Kent Hoffman, Deputy State Director, Lands and Minerals, Utah State Office, Bureau of Land Management, 440 West 200 South, Suite 500, Salt Lake City, Utah 84101, phone (801) 539-4063, Email: khoffman@blm.gov.

Persons who use a telecommunica-tions device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee has agreed to new lease terms for rental and royalty. The rental UTU89234 will increase to $10 per acre and the royalty to 16⅔ percent. The $500 administrative fee for the leases has been paid, and the lessee has reimbursed the Bureau of Land Management (BLM) for the cost of publishing this notice. The following-described lands in Carbon County, Utah, include:

UTU89234

Salt Lake Meridian, Utah

T. 12 S., R 15 E.,

Sec. 10, NE1/4;

Sec. 14, NW1/4;

Sec. 15, NE1/4.

The area described contains 480.00 acres.

As the lessee has met all the requirements for reinstatement of the lease as set out in Section 31(d) and (e) of the Mineral Leasing Act of 1920 (30 U.S.C. 188), the BLM is proposing to reinstate the lease 30 days following publication of the notice, with the effective date of February 1, 2016, subject to increased rental and royalty rates cited above.

Authority: Mineral Leasing Act of 1920 (30 U.S.C. 188) 43 CFR 3108.2-3.

Edwin L. Roberson,
State Director.

[FR Doc. 2018-10967 Filed 5-22-18; 8:45 am]

BILLING CODE 4310-DQ-P